DEPARTMENT OF THE INTERIOR

Fish and Wildlife Service

50 CFR Part 17

RIN 1018-AH80

Endangered and Threatened Wildlife and Plants; Notice of Public Hearings on the Proposed Rule To Establish Sixteen Additional Manatee Protection Areas in Florida

AGENCY: Fish and Wildlife Service, Interior.

ACTION: Proposed rule; notice of public hearings.

SUMMARY: We, the Fish and Wildlife Service, give notice that we are holding public hearings on the proposed rule to establish sixteen additional manatee protection areas in Florida. We invite all interested parties to submit comments on this proposal.

DATES: We will hold public hearings from 7 to 9 p.m. on Monday, September 10, 2001, in Crystal River, Florida; Tuesday, September 11, 2001, in Clearwater, Florida; Wednesday, September 12, 2001, in Venice, Florida; and Thursday, September 13, 2001, in Melbourne, Florida. The comment period will close on October 9, 2001. We will consider any comments received by the closing date in the final decision on this proposal.

ADDRESSES: We will hold the public hearings at the following locations:

• Crystal River at the Plantation Inn and Conference Center, Magnolia Room, 9301 W. Fort Island Trail, Crystal River, FL;

• Clearwater at the Harborview Convention Center Clearwater Room, 300 Cleveland Ave., Clearwater, FL;

• Venice at the Holiday Inn Banquet Room, 455 N. U.S. 41 Bypass, Venice, FL;

• Melbourne at the Radisson Hotel & Conference Center, Oak Ballroom, 3101 North Hwy. A1A, Melbourne, FL.

You may submit written comments and materials concerning the proposal at the hearings or send them directly to the Field Supervisor, U.S. Fish and Wildlife Service, Jacksonville Field Office, U.S. Fish and Wildlife Service, 6620 Southpoint Drive, South, Suite 310, Jacksonville, Florida 32216. You may also hand-deliver written comments to our Jacksonville Field Office, at the above address, or fax your comments to 904/232-2404. Additionally, you may send comments by electronic mail (e-mail) to fw4_es_jacksonville@fws.gov.

Comments and materials received, as well as supporting documentation used in the preparation of this proposed rule, will be available for public inspection, by appointment, during normal business hours from 8:00 a.m. to 4:30 p.m., at the above address. You may obtain copies of the proposed rule and draft environmental assessment from the above address or by calling 904/232-2580, or from our website at http://northflorida.fws.gov.

FOR FURTHER INFORMATION CONTACT: David Hankla, Peter Benjamin, or Cameron Shaw (see ADDRESSES section), telephone 904/232-2580; or visit our website at http://northflorida.fws.gov.

SUPPLEMENTARY INFORMATION: We published a proposed rule to establish 16 additional manatee protection areas in Florida in the Federal Register on August 10, 2001 (66 FR 42318). We are proposing this action under the Endangered Species Act of 1973, as amended (16 U.S.C. 1531 et seq.) (ESA), and the Marine Mammal Protection Act of 1972, as amended (16 U.S.C. 1361-1407) (MMPA), to further recovery of the Florida manatee (Trichechus manatus latirostris) through a reduction in the level of take. In evaluating the need for additional manatee protection areas, we considered the needs of the manatee at an ecosystem level with the goal of ensuring that adequate, protected areas are available throughout peninsular Florida to satisfy the biological requirements of the species, with a view toward the manatee's recovery. We are proposing to designate four areas in Hillsborough, Pinellas, and Citrus Counties, as manatee sanctuaries in which all waterborne activities would be prohibited, with an exception for residents. The remaining 12 areas, located in Pinellas, Sarasota, Charlotte, Desoto, Lee, and Brevard Counties, would be designated as manatee refuges in which certain waterborne activities would be prohibited or regulated. We also announced the availability of a draft environmental assessment for this action.

We announced the date, time and location of the public hearing in Melbourne with the notice of the proposed rule. We stated that additional public hearings would be held at dates, times, and sites to be determined. This notice provides information regarding those additional hearings.

Public hearings are designed to gather relevant information that the public may have that we should consider in our rule-making. During the hearing, we will present information about the proposed action. We invite the public to submit information and comments either at the hearings or in writing.

We may have to limit the time allotted for oral statements, if the number of people who wish to comment necessitates such a limitation. We encourage persons wishing to comment at the hearings to provide a written copy of their statement at the start of the hearing. There is no limit on the length of written comments. Persons may also send written comments to our office in the ADDRESSES section at any time during the open comment period, which closes on October 9, 2001. We will give equal consideration to oral and written comments. We are publishing legal notices announcing the date, time, and location of the hearings in newspapers, concurrently with this Federal Register notice.

Author: The primary author of this notice is Cameron Shaw (see ADDRESSES section).

Authority: The authority for this action is the Endangered Species Act of 1973 (16 U.S.C. 1531 et seq.), and the Marine Mammal Protection Act of 1972, as amended (16 U.S.C. 1361-1407).

Dated: August 20, 2001.
Thomas M. Riley,
Acting Regional Director, Fish and Wildlife Service.

[FR Doc. 01-21906 Filed 8-28-01; 8:45 am]

BILLING CODE 4310-55-P